DEPARTMENT OF THE TREASURY

Submission for OMB Review; Comment Request

February 6, 2007.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before March 14, 2007 to be assured of consideration.

Internal Revenue Service (IRS)

OMB Number: 1545-0007.

Type of Review: Extension.

Title: Forest Activities Schedule.

Form: T.

Description: Form T is filed by individuals and corporations to report income and deductions from the timber business. The IRS uses Form T to determine if the correct amounts of income and deductions are reported.

Respondents: Businesses and other for-profit institutions.

Estimated Total Burden Hours: 446,208 hours.

OMB Number: 1545-0889.

Type of Review: Revision.

Form: 8275-R.

Title: Disclosure Statement (Form 8275), and Regulation Disclosure Statement (Form 8275-R).

Description: IRC section 6662 imposes accuracy related penalties for substantial understatement of tax liability or negligence or disregard of rules and regulations. Section 6694 imposes similar penalties on return preparers. Regulations sections 1.6662-4(e) and (f) provide for reduction of these penalties if adequate disclosure of the tax treatment is made on Form 8275 or, if the position is contrary to a regulation on Form 8275-R.

Respondents: Individuals or households.

Estimated Total Burden Hours: 4,164,325 hours.

OMB Number: 1545-1718.

Title: REG-106030-98 (NPRM) Source of Income from Certain Space and Ocean Activities; Also, Source of Communications Income.

Type of Review: Extension.

Description: The collection of information requirements in proposed sections 1.863-8(g) and 1.863-9(h) are necessary for the service to audit taxpayers' returns to ensure that taxpayers are applying the regulations properly.

Respondents: Businesses and other for-profit institutions.

Estimated Total Burden Hours: 1,250 hours.

OMB Number: 1545-0043.

Title: Consent of Shareholder to Include Specific Amount in Gross Income.

Type of Review: Revision.

Form: 972.

Description: Form 972 is filed by shareholders of corporations to elect to include an amount in gross income as a dividend. The IRS uses Form 972 as a check to see if an amended return is filed to include the amount in income and to determine if the corporation claimed the correct amount.

Respondents: Businesses or other for-profit institutions.

Estimated Total Burden Hours: 385 hours.

Clearance Officer: Glenn P. Kirkland (202) 622-3428, Internal Revenue Service, Room 6516, 1111 Constitution Avenue, NW., Washington, DC 20224.

OMB Reviewer: Alexander T. Hunt (202) 395-7316, Office of Management and Budget, Room 10235, New Executive Office Building, Washington, DC 20503.

Robert Dahl,
Treasury PRA Clearance Officer.

[FR Doc. E7-2329 Filed 2-9-07; 8:45 am]

BILLING CODE 4830-01-P